DEPARTMENT OF AGRICULTURE

Agricultural Marketing Service

7 CFR Part 928

[Docket No. FV02-928-2]

Papayas Grown in Hawaii; Continuance Referendum

AGENCY: Agricultural Marketing Service, USDA.

ACTION: Order to terminate and reschedule referendum.

SUMMARY: This document directs that the continuance referendum scheduled to be held March 4 through March 22, 2002 among eligible growers of Hawaii papayas be terminated and rescheduled for May 6 through May 31, 2002. Rescheduling is necessary due to complications encountered with timely delivery of ballots by mail. Rescheduling will ensure that eligible growers receive their ballots with time to review them and vote. A referendum is necessary to determine whether eligible growers of Hawaii papayas favor continuance of the marketing order regulating the handling of papayas grown in the production area.

DATES: The rescheduled referendum will be conducted from May 6, through May 31, 2002. To vote in this referendum, growers must have been producing Hawaii papayas during the period July 1, 2000, through June 30, 2001.

ADDRESSES: Copies of the marketing order may be obtained from the office of the referendum agent at 2202 Monterey Street, Suite 102 B, Fresno, California, 93721, or the Office of the Docket Clerk, Marketing Order Administration Branch, Fruit and Vegetable Programs, Agricultural Marketing Service (AMS), US Department of Agriculture (USDA), 1400 Independence Avenue SW., Stop 0237, Washington, DC 20250-0237.

FOR FURTHER INFORMATION CONTACT: J. Terry Vawter, California Marketing Field Office, Marketing Order Administration Branch, Fruit and Vegetable Programs, AMS, USDA, at 2202 Monterey Street, Suite 102 B, Fresno, California 93721; telephone (559) 487-5901; or Melissa Schmaedick, Marketing Order Administration Branch, Fruit & Vegetable Programs, AMS, USDA, 1400 Independence Avenue SW., Stop 0237, Washington, DC 20250-0237; telephone (202) 720-2491.

SUPPLEMENTARY INFORMATION: Pursuant to Marketing Order No. 928 (7 CFR part 928), hereinafter referred to as the “order” and the applicable provisions of the Agricultural Marketing Agreement Act of 1937, as amended (7 U.S.C. 601-674), hereinafter referred to as the “Act,” it is hereby directed that the March 4 through March 22, 2002 referendum be terminated and that a rescheduled referendum be conducted from May 6 through May 31, 2002 to ascertain whether continuance of the order is favored by producers. Only growers that were engaged in the production of Hawaii papayas during the period of July 1, 2000, through June 30, 2001, may participate in the rescheduled continuance referendum.

A continuance referendum to be conducted among growers of papayas in Hawaii had been scheduled for the period March 4, through March 22, 2002. Notice of this referendum order was issued on January 31, 2002 and published in the February 6, 2002 issue of the Federal Register (67 FR 5526). Termination of this referendum is necessary due to complications encountered with timely delivery of ballots by mail. Given this delay, we can no longer ensure that adequate time will be given to all eligible voters to fully review, contemplate and cast their ballots within the allotted referendum period. All ballots pertaining to the March referendum period will be considered invalid.

The USDA has determined that a rescheduled referendum to determine if growers of papayas in the production area favor continuance of their marketing order will be held from May 6 through May 31, 2002. Rescheduling of the referendum period will ensure proper distribution and ample review for all eligible growers voting in the referendum. New ballots and voting instruction will be issued to all growers of record subsequent to this Notice.

The USDA has determined that continuance referenda are an effective means for ascertaining whether growers favor continuation of marketing order programs. The USDA would continue the order if either two-thirds of the growers voting in the referendum or growers of two-thirds of the volume of Hawaii papayas represented in the referendum favor continuance. In evaluating the merits of continuance versus termination, the USDA will consider the results of the referendum and other relevant information regarding operation of the order. The USDA will evaluate the order's relative benefits and disadvantages to growers, handlers, and consumers to determine whether continuing the order would tend to effectuate the declared policy of the Act.

In accordance with the Paperwork Reduction Act of 1995 (44 U.S.C. Chapter 35), the ballot materials used in the referendum herein ordered have been submitted to and approved by the Office of Management and Budget (OMB) and have been assigned OMB No. 0581-0102 for Hawaii papayas. It has been estimated that it will take an average of 20 minutes for each of the approximately 400 growers of Hawaii papayas to cast a ballot. Participation is voluntary. Ballots postmarked after May 31, 2002, will not be included in the vote tabulation.

J. Terry Vawter and Martin Engeler of the California Marketing Field Office, Fruit and Vegetable Programs, AMS, USDA, are hereby designated as the referendum agents of the Department to conduct such referendum. The procedure applicable to the referendum shall be the “Procedure for the Conduct of Referenda in Connection With Marketing Orders for Fruits, Vegetables, and Nuts Pursuant to the Agricultural Marketing Agreement Act of 1937, as Amended” (7 CFR 900.400—900.407).

Ballots will be mailed to all growers of record and may also be obtained from the referendum agents and from their appointees.

List of Subjects in 7 CFR Part 928

Marketing agreements, Papayas, Reporting and recordkeeping requirements.

Authority: 7 U.S.C. 601-674.

Dated: March 19, 2002.
A.J. Yates,
Administrator, Agricultural Marketing Service.

[FR Doc. 02-6957 Filed 3-19-02; 2:36 pm]

BILLING CODE 3410-02-P